DEPARTMENT OF HEALTH AND HUMAN SERVICES

Centers for Disease Control and Prevention

[30Day-19-18AMQ]

Agency Forms Undergoing Paperwork Reduction Act Review

In accordance with the Paperwork Reduction Act of 1995, the Centers for Disease Control and Prevention (CDC) has submitted the information collection request titled Assessing impact of the NIOSH research to the Office of Management and Budget (OMB) for review and approval. CDC previously published a “Proposed Data Collection Submitted for Public Comment and Recommendations” notice on July 20, 2018 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street, NW, Washington, DC 20503 or by fax to (202) 395-5806. Provide written comments within 30 days of notice publication.

Proposed Project

Assessing impact of the NIOSH research—New—National Institute for Occupational Safety and Health (NIOSH), Centers for Disease Control and Prevention (CDC).

Background and Brief Description

The National Institute for Occupational Safety and Health (NIOSH) is responsible for conducting research and making recommendations to prevent worker injury and illness, as authorized in Section 20(a)(1) of the Occupational Safety and Health Act (29 U.S.C. 669). NIOSH is strongly committed to program evaluation as a way to maximize its contributions to improved occupational safety and health. NIOSH is requesting a new generic information collection request for a three-year period that will support the timely information collection needed for upcoming program evaluation activities, such as external reviews of NIOSH research programs (which fulfil a Government Performance and Results Act (GPRA) requirement), studies to understand the economic value of NIOSH research, process evaluations of NIOSH programs, and evaluations of large research projects. For these reviews, NIOSH needs to collect information about research dissemination and achieved outcomes from key audiences (grantees, potential NIOSH research users and relevant safety and health experts) for accountability and program improvement purposes. NIOSH is specifically interested in assessing intermediate outcomes — the use of NIOSH research products and findings by external stakeholders and partners to improve safety and health — as evidence of research impact. Being able to collect information on intermediate outcomes from grantees, as well as past, present, and potential future users of NIOSH research would allow us to provide more robust evidence of use or adoption of NIOSH research products or findings.

The evaluation findings and recommendations from the various program evaluation activities described above will be used as an input for future direction of the programs and incorporated into analyses and reports to either investigate the value of NIOSH's research, or improve program operations to maximize impact.

Data will be collected through semi-structured key informant interviews with grantees, potential or known users of NIOSH research, and subject matter experts in safety and health. NIOSH estimates that 30 respondents will be involved in phone interviews, which would last between 30-60 minutes. However, participants might be burdened an additional hour reading the invitation email and providing relevant documents such as evidence of research impact. Therefore, the estimated burden for each participant is two hours. The total estimated burden is 60 hours.

Estimated Annualized Burden Hours
Type of respondents | Form name | Number of respondents | Number of responses per respondent | Average burden per response (in hours)
Natural science managers | Semi-Structured Interview Guide (Subject Matter Experts) | 10 | 1 | 2
Postsecondary Teachers | Semi-Structured Interview Guide (Grantees) | 12 | 1 | 2
Industrial production managers | Semi-Structured Interview Guide (Research users) | 8 | 1 | 2

Jeffrey M. Zirger,
Lead, Information Collection Review Office, Office of Scientific Integrity, Office of Science, Centers for Disease Control and Prevention.

[FR Doc. 2019-13519 Filed 6-25-19; 8:45 am]

BILLING CODE 4163-18-P